DEPARTMENT OF COMMERCE

Bureau of Industry and Security

In the Matter of: Emenike Charles Nwankwoala Currently Incarcerated at: Inmate Number 50756-037 FCI Elkton, Federal Correction Institution, P.O. Box 10, Lisbon, OH 44432 and With an Address at: Emenike Nwankwoala, 15028 Courtland Place, Laurel, MD 20707

Order Denying Export Privileges

On January 3, 2011, in the U.S. District Court, District of Maryland, Emenike Charles Nwankwoala (“Nwankwoala”) was convicted of violating Section 38 of the Arms Export Control Act (22 U.S.C. 2778 (2000)) (“AECA”) and the International Emergency Economic Powers Act (50 U.S.C. 1701 et seq. (2000)) (“IEEPA”). Specifically, Nwankwoala was convicted of knowingly and willfully exporting, causing to be exported, and attempting to export from the United States to Nigeria, defense articles included on the United States Munitions List, namely, firearms and ammunition, without having first obtained from the Department of State a license for such export or written authorization for such export, in violation of AECA. Nwankwoala was also convicted of knowingly and willfully exporting, causing to exported, and attempting to export from the United States to Nigeria shotguns without having first obtained a validated export license from the United States Department of Commerce, in violation of IEEPA. Nwankwoala was sentenced to 37 months in prison followed by 24 months of supervised release. Nwankwoala is also listed on the U.S. Department of State Debarred List.

Section 766.25 of the Export Administration Regulations (“EAR” or “Regulations”)¹ provides, in pertinent part, that “[t]he Director of the Office of Exporter Services, in consultation with the Director of the Office of Export Enforcement, may deny the export privileges of any person who has been convicted of a violation of the [Export Administration Act (“EAA”)], the EAR, or any order, license or authorization issued thereunder; any regulation, license, or order issued under the International Emergency Economic Powers Act (50 U.S.C. 1701-1706); 18 U.S.C. 793, 794 or 798; section 4(b) of the Internal Security Act of 1950 (50 U.S.C. 783(b)), or section 38 of the Arms Export Control Act (22 U.S.C. 2778).” 15 CFR 766.25(a); see also Section 11(h) of the EAA, 50 U.S.C. app. § 2410(h). The denial of export privileges under this provision may be for a period of up to 10 years from the date of the conviction. 15 CFR 766.25(d); see also 50 U.S.C. app. § 2410(h). In addition, Section 750.8 of the Regulations states that the Bureau of Industry and Security's Office of Exporter Services may revoke any Bureau of Industry and Security (“BIS”) licenses previously issued in which the person had an interest in at the time of his conviction.

¹ The Regulations are currently codified in the Code of Federal Regulations at 15 CFR Parts 730-774 (2012). The Regulations issued pursuant to the Export Administration Act (50 U.S.C. app. §§ 2401-2420 (2000)) (“EAA”). Since August 21, 2001, the EAA has been in lapse and the President, through Executive Order 13222 of August 17, 2001 (3 CFR, 2001 Comp. 783 (2002)), which has been extended by successive Presidential Notices, the most recent being that of August 15, 2012 (77 FR 49699 (Aug. 16, 2012)), has continued the Regulations in effect under the International Emergency Economic Powers Act (50 U.S.C. 1701, et seq. (2000)).

I have received notice of Nwankwoala's conviction for violating AECA and IEEPA, and have provided notice and an opportunity for Nwankwoala to make a written submission to BIS, as provided in Section 766.25 of the Regulations. I have received a submission from Nwankwoala. Based upon my review and consultations with BIS's Office of Export Enforcement, including its Director, and the facts available to BIS, I have decided to deny Nwankwoala's export privileges under the Regulations for a period of 10 years from the date of Nwankwoala's conviction. I have also decided to revoke all licenses issued pursuant to the Act or Regulations in which Nwankwoala had an interest at the time of his conviction.

Accordingly, it is hereby

Ordered

I. Until January 3, 2021, Emenike Charles Nwankwoala, with last known addresses at: currently incarcerated at: Inmate Number 50756-037, FCI Elkton, Federal Correctional Institution, P.O. Box 10, Lisbon, OH 44432, and with an address at: 15028 Courtland Place, Laurel, MD 20707, and when acting for or on behalf of Nwankwoala, his representatives, assigns, agents or employees (the “Denied Person”), may not, directly or indirectly, participate in any way in any transaction involving any commodity, software or technology (hereinafter collectively referred to as “item”) exported or to be exported from the United States that is subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

II. No person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

III. After notice and opportunity for comment as provided in Section 766.23 of the Regulations, any other person, firm, corporation, or business organization related to Nwankwoala by affiliation, ownership, control or position of responsibility in the conduct of trade or related services may also be subject to the provisions of this Order if necessary to prevent evasion of the Order.

IV. This Order does not prohibit any export, reexport, or other transaction subject to the Regulations where the only items involved that are subject to the Regulations are the foreign-produced direct product of U.S.-origin technology.

V. This Order is effective immediately and shall remain in effect until January 3, 2021.

VI. In accordance with Part 756 of the Regulations, Nwankwoala may file an appeal of this Order with the Under Secretary of Commerce for Industry and Security. The appeal must be filed within 45 days from the date of this Order and must comply with the provisions of Part 756 of the Regulations.

VII. A copy of this Order shall be delivered to the Nwankwoala. This Order shall be published in the Federal Register.

Dated: Issued this 21st day of December, 2012.
Bernard Kritzer,
Director, Office of Exporter Services.

[FR Doc. 2012-31444 Filed 12-31-12; 8:45 am]

BILLING CODE P